DEPARTMENT OF ENERGY

Office of Energy Efficiency and Renewable Energy

10 CFR Part 440

RIN 1904-AB56

Weatherization Assistance Program for Low-Income Persons

AGENCY: Office of Energy Efficiency and Renewable Energy, Department of Energy.

ACTION: Notice of proposed rulemaking.

SUMMARY: The Department of Energy (DOE) is proposing to amend the regulations for the Weatherization Assistance Program for Low-Income Persons to incorporate statutory changes resulting from the passage of the Energy Policy Act of 2005. Specifically, DOE proposes to: define renewable energy systems eligible for funding in the Weatherization Assistance Program, establish criteria for performance and quality standards for eligible renewable energy systems, establish procedures for submission of and action on manufacturer petitions for Secretarial determinations of eligibility of renewable energy technologies and systems, and establish a ceiling for funding of renewable energy systems in the Weatherization Assistance Program.

DATES: Public comments on this proposed rule will be accepted until July 24, 2006.

ADDRESSES: You may submit comments, identified by RIN 1904-AB56, by any of the following methods:

• Federal eRulemaking Portal: http://www.regulations.gov. Follow the instructions for submitting comments.

• E-Mail: Weatherization.rules@ee.doe.gov. Include RIN 1904-AB56 in the subject line of the message.

• Mail: Weatherization Assistance Program, U.S. Department of Energy, Mail Stop EE2K, 5E-066, 1000 Independence Avenue, SW., Washington, DC 20585.

You may obtain copies of this notice of proposed rulemaking and review comments received by DOE by visiting the DOE Freedom of Information Reading Room, Department of Energy, Room 1E-190, Forrestal Building, 1000 Independence Avenue, SW., Washington, DC 20585, (202) 586-3142, between the hours of 9 a.m. and 4 p.m., Monday through Friday, except Federal holidays.

FOR FURTHER INFORMATION CONTACT: John Atcheson, Weatherization Assistance Program, U.S. Department of Energy, Mail Stop EE-2K, 5E-066, 1000 Independence Avenue, SW., Washington, DC 20585, (202) 586-0771.

SUPPLEMENTARY INFORMATION: This notice of proposed rulemaking (NOPR) proposes to amend the program regulations for the Weatherization Assistance Program for Low-Income Persons, which is authorized by Title IV, Part A, of the Energy Conservation and Production Act, as amended (Act), 42 U.S.C. 6861 et seq. The proposed amendments are necessitated by certain changes in the Weatherization Assistance Program mandated in the Energy Policy Act of 2005 (Pub. L. 109-58) (EPACT 2005). The proposed rule would define renewable energy systems eligible for funding in the Weatherization Assistance Program, establish criteria for performance and quality standards for eligible renewable energy systems, establish procedures for submission of and action on manufacturer petitions for Secretarial determinations of eligibility of renewable energy technologies and systems, and establish a new ceiling for funding of renewable energy systems in the Weatherization Assistance Program.

Today, DOE is also publishing, elsewhere in this issue of the Federal Register, a direct final rule that makes the amendments to the Weatherization Assistance Program for Low-Income Persons that are being proposed in this NOPR. As explained in the preamble of the direct final rule, DOE considers these amendments not to be controversial and unlikely to generate any significant adverse or critical comments. If no significant adverse or critical comments are received on the direct final rule, the direct final rule will become effective on the date specified in that rule, and there will be no further action on this proposal. If significant adverse or critical comments are timely received on the direct final rule, DOE will withdraw the direct final rule. The public comments will then be addressed in a subsequent final rule based on the rule proposed in this NOPR (which is the same as the rule set forth in the direct final rule). Because DOE will not institute a second comment period on this proposed rule, any persons interested in commenting should do so during this comment period.

For further supplemental information, the detailed description of the proposed rule, and the proposed rule amendments, see the information provided in the notice of direct final rulemaking in this Federal Register.

Approval of the Office of the Secretary

The Secretary of Energy has approved publication of today's notice of proposed rulemaking, as well as the accompanying direct final rule.

List of Subjects 10 CFR Part 440

Administrative practice and procedure, Aged, Energy conservation, Grant programs—energy, Grant programs—housing and community development, Housing standards, Indians, Individuals with disabilities, Reporting and recordkeeping requirements, Weatherization.

Issued in Washington, DC, on June 9, 2006.
Douglas L. Faulkner,
Principal Deputy Assistant Secretary, Energy Efficiency and Renewable Energy.

[FR Doc. E6-9857 Filed 6-21-06; 8:45 am]

BILLING CODE 6450-01-P